DEPARTMENT OF COMMERCE

International Trade Administration

[A-821-840]

Unwrought Palladium From the Russian Federation: Initiation of Less-Than-Fair-Value Investigation

AGENCY: Enforcement and Compliance, International Trade Administration, Department of Commerce.

DATES: Applicable August 19, 2025.

FOR FURTHER INFORMATION CONTACT: Rebecca Janz, Office II, AD/CVD Operations, Enforcement and Compliance, International Trade Administration, U.S. Department of Commerce, 1401 Constitution Avenue NW, Washington, DC 20230; telephone: (202) 482-2972.

SUPPLEMENTARY INFORMATION:

The Petition

On July 30, 2025, the U.S. Department of Commerce (Commerce) received an antidumping duty (AD) Petition concerning imports of unwrought palladium from the Russian Federation (Russia), filed in proper form on behalf of Stillwater Mining Company d/b/a Sibanye-Stillwater and the United Steel Paper, and Forestry, Rubber, Manufacturing, Energy, Industrial and Service Workers International Union, AFL-CIO, CLC (the petitioners), a domestic producer of unwrought palladium and a certified union, which represents workers engaged in the production of unwrought palladium in the United States.¹ The AD Petition was accompanied by a countervailing duty (CVD) Petition concerning imports of unwrought palladium from Russia.²

¹ See Petitioners' Letter, “Petitions for the Imposition of Antidumping and Countervailing Duties on Unwrought Palladium from the Russian Federation,” dated July 30, 2025 (Petition).

² Id.

Between August 4 and 11, 2025, Commerce requested supplemental information pertaining to certain aspects of the Petition in supplemental questionnaires.³ Between August 6 and 11, 2025, the petitioners filed timely responses to these requests for additional information.⁴

³ See Commerce's Letters, “Supplemental Questions,” dated August 4, 2025 (First General Issues Supplemental Questionnaire); “Supplemental Questions,” dated August 4, 2025 (AD Supplemental Questionnaire); and “Second General Issues Supplemental Questions,” dated August 7, 2025 (Second General Issues Supplemental Questionnaire); see also Memorandum, “Phone Call with Counsel to the Petitioners,” dated August 11, 2025.

⁴ See Petitioners' Letters, “Petitioners' Response to Commerce's Supplemental Questions on General Issues,” dated August 6, 2025 (First General Issues Supplement); “Petitioners' Response to Commerce's Supplemental Questions,” dated August 6, 2025 (AD Supplement); “Petitioners' Response to Commerce's Second Supplemental Questions on General Issues,” dated August 8, 2025 (Second General Issues Supplement); and “Additional Certifications for Petitioners' Responses to Commerce's Supplemental Questions,” dated August 11, 2025.

In accordance with section 732(b) of the Tariff Act of 1930, as amended (the Act), the petitioners allege that imports of unwrought palladium from Russia are being, or are likely to be, sold in the United States at less than fair value (LTFV) within the meaning of section 731 of the Act, and that imports of such products are materially injuring, or threatening material injury to, the unwrought palladium industry in the United States. Consistent with section 732(b)(1) of the Act, the Petition was accompanied by information reasonably available to the petitioners supporting their allegations.

Commerce finds that the petitioners filed the Petition on behalf of the domestic industry, because the petitioners are interested parties, as defined in sections 771(9)(C) and (D) of the Act. Commerce also finds that the petitioners demonstrated sufficient industry support for the initiation of the requested LTFV investigation.⁵

⁵ See section on “Determination of Industry Support for the Petition,” infra.

Period of Investigation

Because the Petition was filed on July 30, 2025, pursuant to 19 CFR 351.204(b)(1), the period of investigation (POI) for the Russia LTFV investigation is January 1, 2025, through June 30, 2025.

Scope of the Investigation

The product covered by this investigation is unwrought palladium from Russia. For a full description of the scope of this investigation, see the appendix to this notice.

Comments on the Scope of the Investigation

On August 4 and 7, 2025, Commerce requested information and clarification from the petitioners regarding the proposed scope to ensure that the scope language in the Petition is an accurate reflection of the products for which the domestic industry is seeking relief.⁶ On August 6 and 8, 2025, the petitioners provided clarifications and revised the scope.⁷ The description of merchandise covered by this investigation, as described in the appendix to this notice, reflects these clarifications.

⁶ See First General Issues Supplemental Questionnaire; see also Second General Issues Supplemental Questionnaire.

⁷ See First General Issues Supplement at 1-3 and Exhibit 2; see also Second General Issues Supplement at 1-2 and Exhibit 4.

As discussed in the Preamble to Commerce's regulations, we are setting aside a period for interested parties to raise issues regarding product coverage (i.e., scope).⁸ Commerce will consider all scope comments received from interested parties and, if necessary, will consult with interested parties prior to the issuance of the preliminary determination. If scope comments include factual information,⁹ all such factual information should be limited to public information. Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on September 8, 2025, which is 20 calendar days from the signature date of this notice. Any rebuttal comments, which may include factual information, and should also be limited to public information, must be filed by 5:00 p.m. ET on September 18, 2025, which is 10 calendar days from the initial comment deadline.

⁸ See Antidumping Duties; Countervailing Duties, Final Rule, 62 FR 27296, 27323 (May 19, 1997) (Preamble); see also 19 CFR 351.312.

⁹ See 19 CFR 351.102(b)(21) (defining “factual information”).

Commerce requests that any factual information that parties consider relevant to the scope of this investigation be submitted during that period. However, if a party subsequently finds that additional factual information pertaining to the scope of the investigation may be relevant, the party must contact Commerce and request permission to submit the additional information. All scope comments must be filed simultaneously on the records of the concurrent LTFV and CVD investigations.

Filing Requirements

All submissions to Commerce must be filed electronically via Enforcement and Compliance's Antidumping Duty and Countervailing Duty Centralized Electronic Service System (ACCESS), unless an exception applies.¹⁰ An electronically filed document must be received successfully in its entirety by the time and date it is due.

¹⁰ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of unwrought palladium to be reported in response to Commerce's AD questionnaires. This information will be used to identify the key physical characteristics of the subject merchandise in order to report the relevant factors of production (FOP) accurately, as well as to develop appropriate product comparison criteria.

Interested parties may provide any information or comments that they feel are relevant to the development of an accurate list of physical characteristics. In order to consider the suggestions of interested parties in developing and issuing the AD questionnaires, all product characteristics comments must be filed by 5:00 p.m. ET on September 8, 2025, which is 20 calendar days from the signature date of this notice. Any rebuttal comments must be filed by 5:00 p.m. ET on September 18, 2025, which is 10 calendar days from the initial comment deadline. All comments and submissions to Commerce must be filed electronically using ACCESS, as explained above, on the record of the LTFV investigation.

Determination of Industry Support for the Petition

Section 732(b)(1) of the Act requires that a Petition be filed on behalf of the domestic industry. Section 732(c)(4)(A) of the Act provides that a Petition meets this requirement if the domestic producers or workers who support the Petition account for: (i) at least 25 percent of the total production of the domestic like product; and (ii) more than 50 percent of the production of the domestic like product produced by that portion of the industry expressing support for, or opposition to, the petition. Moreover, section 732(c)(4)(D) of the Act provides that, if the Petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a Petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹¹ they do so for different purposes and pursuant to a separate and distinct authority. In addition, Commerce's determination is subject to limitations of time and information. Although this may result in different definitions of the like product, such differences do not render the decision of either agency contrary to law.¹²

¹¹ See section 771(10) of the Act.

¹² See USEC, Inc. v. United States, 132 F.Supp.2d 1, 8 (CIT 2001) (citing Algoma Steel Corp., Ltd. v. United States, 688 F.Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigation.¹³ Based on our analysis of the information submitted on the record, we have determined that unwrought palladium, as defined in the scope, constitutes a single domestic like product, and we have analyzed industry support in terms of that domestic like product.¹⁴

¹³ For a discussion of the domestic like product analysis as applied to this case and information regarding industry support, see Checklist, “Antidumping Duty Investigation Initiation Checklist: Unwrought Palladium from the Russian Federation,” dated concurrently with, and hereby adopted by, this notice (Russia AD Initiation Checklist), at Attachment II, Analysis of Industry Support for the Antidumping and Countervailing Duty Petitions Covering Unwrought Palladium from the Russian Federation (Attachment II). This checklist is on file electronically via ACCESS.

¹⁴ Id.

In determining whether the petitioners have standing under section 732(c)(4)(A) of the Act, we considered the industry support data contained in the Petition with reference to the domestic like product as defined in the “Scope of the Investigation,” in the appendix to this notice. To establish industry support, the petitioners provided the 2024 production of the domestic like product for the U.S. producers that support the Petition and compared this to total 2024 U.S. production of the domestic like product by the entire U.S. unwrought palladium industry, as reported by the U.S. Geological Survey (USGS) in the 2025 Mineral Commodity Summaries publication.¹⁵ Commerce contacted USGS officials on August 14, 2025, to request clarification regarding the USGS data provided in the Petition and the availability of data on total U.S. refinery production in 2024.¹⁶ During our communications with USGS, USGS referred us to the total U.S. refinery production data in the 2023 Minerals Yearbook, which was published in February 2025 and which contains the most recently available USGS data on total U.S. refinery production.¹⁷ Accordingly, we relied upon the 2023 Minerals Yearbook data and made certain adjustments using historical data in that publication as well as other USGS data provided in the Petition to estimate total 2024 U.S. production of unwrought palladium.¹⁸ We then compared the 2024 production of the domestic like product for the U.S. producers that support the Petition to the estimated total 2024 U.S. production of the domestic like product by the entire U.S. unwrought palladium industry (based on the USGS data described above) for purposes of measuring industry support.¹⁹

¹⁵ Id.

¹⁶ See Memorandum, “Teleconference with a Commodity Specialist of the United States Geological Survey,” dated August 15, 2025.

¹⁷ Id.

¹⁸ For further discussion, see Attachment II of the Russia AD Initiation Checklist.

¹⁹ Id.

On August 12, 2025, we received timely filed comments on industry support and a statement of opposition from BASF Metals LLC (BASF), a U.S. producer and importer of unwrought palladium.²⁰ On August 14, 2025, the petitioners responded to the comments from BASF in a timely filed rebuttal submission.²¹

²⁰ See BASF's Letter, “BASF Metals LLC Comments Regarding Industry Support,” dated August 12, 2025.

²¹ See Petitioners' Letter, “Petitioners' Industry Support Rebuttal,” August 14, 2025 (Petitioners' Response).

Our review of the data provided in the Petition, the First General Issues Supplement, the Second General Issues Supplement, the Petitioners' Response, and other information readily available to Commerce indicates that the petitioners have established industry support for the Petition.²² First, the Petition established support from domestic producers (or workers) accounting for more than 50 percent of the total production of the domestic like product and, as such, Commerce is not required to take further action in order to evaluate industry support (e.g., polling).²³ Second, the domestic producers (or workers) have met the statutory criteria for industry support under section 732(c)(4)(A)(i) of the Act because the domestic producers (or workers) who support the Petition account for at least 25 percent of the total production of the domestic like product.²⁴ Finally, the domestic producers (or workers) have met the statutory criteria for industry support under section 732(c)(4)(A)(ii) of the Act because the domestic producers (or workers) who support the Petition account for more than 50 percent of the production of the domestic like product produced by that portion of the industry expressing support for, or opposition to, the Petition.²⁵ Accordingly, Commerce determines that the Petition was filed on behalf of the domestic industry within the meaning of section 732(b)(1) of the Act.²⁶

²² For further discussion, see Attachment II of the Russia AD Initiation Checklist.

²³ Id.; see also section 732(c)(4)(D) of the Act.

²⁴ See Attachment II of the Russia AD Initiation Checklist.

²⁵ Id.

²⁶ Id.

Allegations and Evidence of Material Injury and Causation

The petitioners allege that the U.S. industry producing the domestic like product is being materially injured, or is threatened with material injury, by reason of the imports of the subject merchandise sold at LTFV. In addition, the petitioners allege that subject imports exceed the negligibility threshold provided for under section 771(24)(A) of the Act.²⁷

²⁷ For further discussion, see Russia AD Initiation Checklist at Attachment III, Analysis of Allegations and Evidence of Material Injury and Causation for the Antidumping and Countervailing Duty Petitions Covering Unwrought Palladium from the Russian Federation.

The petitioners contend that the industry's injured condition is illustrated by a significant increase in the volume of subject imports; underselling and price depression and/or suppression; declines in production and shipments; layoffs; negative impact on financial performance and capital expenditures; and reduced market share.²⁸ We assessed the allegations and supporting evidence regarding material injury, threat of material injury, causation, as well as negligibility, and we have determined that these allegations are properly supported by adequate evidence, and meet the statutory requirements for initiation.²⁹

²⁸ Id.

²⁹ Id.

Allegations of Sales at LTFV

The following is a description of the allegations of sales at LTFV upon which Commerce based its decision to initiate an LTFV investigation of imports of unwrought palladium from Russia. The sources of data for the deductions and adjustments relating to U.S. price and normal value (NV) are discussed in greater detail in the Russia AD Initiation Checklist.

U.S. Price

The petitioners based export price (EP) on the POI average unit value (AUV) derived from official U.S. import statistics for imports of unwrought palladium produced in and exported from Russia.³⁰ The petitioners made no adjustments to the U.S. price to calculate a net ex-factory U.S price.³¹

³⁰ See Russia AD Initiation Checklist.

³¹ Id.

Normal Value

Commerce considers Russia to be an NME country.³² In accordance with section 771(18)(C)(i) of the Act, any determination that a foreign country is an NME country shall remain in effect until revoked by Commerce. Therefore, we continue to treat Russia as an NME country for purposes of the initiation of this LTFV investigation. Accordingly, we base NV on FOPs valued in a surrogate market economy country in accordance with section 773(c) of the Act.

³² See, e.g., Emulsion Styrene-Butadiene Rubber from the Russian Federation: Final Affirmative Determination of Sales at Less Than Fair Value and Classification of the Russian Federation as a Non-Market Economy, 87 FR 69002 (November 17, 2022), and accompanying “Reconsideration of Russia's Status as a Market Economy” Decision Memorandum.

The petitioners claim that Malaysia is an appropriate surrogate country for Russia because it is a market economy that is at a level of economic development comparable to that of Russia and a significant producer of comparable merchandise.³³ The petitioners provided publicly available information from Malaysia to value all FOPs (except palladium, platinum, and rhodium).³⁴ To value palladium, platinum, and rhodium, the petitioners provided import statistics from another surrogate country, Romania.³⁵ Based on the information provided by the petitioners, we believe it is appropriate to use Malaysia as a surrogate country for Russia to value all FOPs (except palladium, platinum, and rhodium), and Romania to value palladium, platinum, and rhodium for initiation purposes.

³³ See Russia AD Initiation Checklist.

³⁴ Id.

³⁵ Id.

Interested parties will have the opportunity to submit comments regarding surrogate country selection and, pursuant to 19 CFR 351.301(c)(3)(i), will be provided an opportunity to submit publicly available information to value FOPs within 30 days before the scheduled date of the preliminary determination.

Factors of Production

The petitioners used publicly available information on the production experience and product-specific consumption and co-product recovery rates of Norilsk Nickel, a Russian producer/exporter of unwrought palladium, to value Russian manufacturers' FOPs.³⁶ The petitioners then allocated the portion of the ore input cost attributable to palladium using a net realizable value methodology.³⁷

³⁶ Id.

³⁷ Id.

Fair Value Comparisons

Based on the data provided by the petitioners, there is reason to believe that imports of unwrought palladium from Russia are being, or are likely to be, sold in the United States at LTFV. Based on comparisons of EP to NV in accordance with sections 772 and 773 of the Act, the estimated dumping margin for unwrought palladium from Russia covered by this initiation is 828.09 percent.³⁸

³⁸ Id.

Initiation of LTFV Investigation

Based upon the examination of the Petition and supplemental responses, we find that they meet the requirements of section 732 of the Act. Therefore, we are initiating an LTFV investigation to determine whether imports of unwrought palladium from Russia are being, or are likely to be, sold in the United States at LTFV. In accordance with section 733(b)(1)(A) of the Act and 19 CFR 351.205(b)(1), unless postponed, we will make our preliminary determination no later than 140 days after the date of this initiation.

Respondent Selection

In the Petition, the petitioners identified four companies in Russia as producers and/or exporters of unwrought palladium.³⁹ Our standard practice for respondent selection in AD investigations involving NME countries is to select respondents based on quantity and value (Q&V) questionnaires in cases where it has determined that the number of companies is large and it cannot individually examine each company based upon its resources. Therefore, considering the number of producers and/or exporters identified in the Petition, Commerce will solicit Q&V information that can serve as a basis for selecting exporters for individual examination in the event that Commerce determines that the number is large and decides to limit the number of respondents individually examined pursuant to section 777A(c)(2) of the Act. Because there are four Russian producers and/or exporters identified in the Petition, Commerce has determined that it will issue Q&V questionnaires to each potential respondent for which there is complete address information on the record.

³⁹ See Petition at Volume I (page I-10 and Exhibit I-9); see also First General Issues Supplement at 1 and Exhibit 1.

Commerce will post the Q&V questionnaire along with filing instructions on Commerce's website at https://www.trade.gov/ec-adcvd-case-announcements. Producers/exporters of unwrought palladium from Russia that do not receive Q&V questionnaires may still submit a response to the Q&V questionnaire and can obtain a copy of the Q&V questionnaire from Commerce's website. Responses to the Q&V questionnaire must be submitted by the relevant Russian producers/exporters no later than 5:00 p.m. ET on September 2, 2025, which is two weeks from the signature date of this notice. All Q&V questionnaire responses must be filed electronically via ACCESS. An electronically filed document must be received successfully, in its entirety, by ACCESS no later than 5:00 p.m. ET on the deadline noted above.

Interested parties must submit applications for disclosure under administrative protective order (APO) in accordance with 19 CFR 351.305(b). Instructions for filing such applications may be found on Commerce's website at https://www.trade.gov/administrative-protective-orders.

Separate Rates

In order to obtain separate rate status in an NME investigation, exporters and producers must submit a separate rate application. The specific requirements for submitting a separate rate application in an NME investigation are outlined in detail in the application itself, which is available on Commerce's website at https://access.trade.gov/Resources/nme/nme-sep-rate.html. Note that Commerce recently promulgated new regulations pertaining to separate rates, including the separate rate application deadline and eligibility for separate rate status, in 19 CFR 351.108.⁴⁰ Pursuant to 19 CFR 351.108(d)(1), the separate rate application will be due 21 days after publication of this initiation notice.⁴¹ Exporters and producers must file a timely separate rate application if they want to be considered for individual examination. In addition, pursuant to 19 CFR 351.108(e), exporters and producers who submit a separate rate application and have been selected as mandatory respondents will be eligible for consideration for separate rate status only if they fully respond to all parts of Commerce's AD questionnaire and participate in the LTFV proceeding as mandatory respondents.⁴² Commerce requires that companies from China submit a response both to the Q&V questionnaire and to the separate rate application by the respective deadlines to receive consideration for separate rate status. Companies not filing a timely Q&V questionnaire response will not receive separate rate consideration.

⁴⁰ See Regulations Enhancing the Administration of the Antidumping and Countervailing Duty Trade Remedy Laws, 89 FR 101694, 101759-60 (December 16, 2024).

⁴¹ See 19 CFR 351.108(d)(1).

⁴² See 19 CFR 351.108(e).

Use of Combination Rates

Commerce will calculate combination rates for certain respondents that are eligible for a separate rate in an NME investigation. The Separate Rates and Combination Rates Bulletin states:

{w}hile continuing the practice of assigning separate rates only to exporters, all separate rates that {Commerce} will now assign in its NME investigation will be specific to those producers that supplied the exporter during the period of investigation. Note, however, that one rate is calculated for the exporter and all of the producers which supplied subject merchandise to it during the period of investigation. This practice applies both to mandatory respondents receiving an individually calculated separate rate as well as the pool of non-investigated firms receiving the {weighted average} of the individually calculated rates. This practice is referred to as the application of “combination rates” because such rates apply to specific combinations of exporters and one or more producers. The cash-deposit rate assigned to an exporter will apply only to merchandise both exported by the firm in question and produced by a firm that supplied the exporter during the period of investigation.⁴³

⁴³ See Enforcement and Compliance's Policy Bulletin No. 05.1, regarding, “Separate-Rates Practice and Application of Combination Rates in Antidumping Investigation involving NME Countries,” (April 5, 2005) at 6 (emphasis added), available on Commerce's website at https://access.trade.gov/Resources/policy/bull05-1.pdf.

Distribution of Copies of the Petition

In accordance with section 732(b)(3)(A) of the Act and 19 CFR 351.202(f), a copy of the public version of the Petition has been provided to the Government of Russia via ACCESS. To the extent practicable, we will attempt to provide a copy of the public version of the Petition to each exporter named in the Petition, as provided under 19 CFR 351.203(c)(2).

ITC Notification

Commerce will notify the ITC of our initiation, as required by section 732(d) of the Act.

Preliminary Determination by the ITC

The ITC will preliminarily determine, within 45 days after the date on which the Petition was filed, whether there is a reasonable indication that imports of unwrought palladium from Russia are materially injuring, or threatening material injury to, a U.S. industry.⁴⁴ A negative ITC determination will result in the investigation being terminated.⁴⁵ Otherwise, this LTFV investigation will proceed according to statutory and regulatory time limits.

⁴⁴ See section 733(a) of the Act.

⁴⁵ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁶ and, if the information is submitted to rebut, clarify, or correct factual information already on the record, to provide an explanation identifying the information already on the record that the factual information seeks to rebut, clarify, or correct.⁴⁷ Time limits for the submission of factual information are addressed in 19 CFR 351.301, which provides specific time limits based on the type of factual information being submitted. Interested parties should review the regulations prior to submitting factual information in this investigation.

⁴⁶ See 19 CFR 351.301(b).

⁴⁷ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴⁸ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in this investigation.⁴⁹

⁴⁸ See 19 CFR 351.301; see also Extension of Time Limits; Final Rule, 78 FR 57790 (September 20, 2013) (Time Limits Final Rule), available at https://www.gpo.gov/fdsys/pkg/FR-2013-09-20/html/2013-22853.htm.

⁴⁹ See 19 CFR 351.302; see also, e.g., Time Limits Final Rule.

Certification Requirements

Any party submitting factual information in an AD or CVD proceeding must certify to the accuracy and completeness of that information.⁵⁰ Parties must use the certification formats provided in 19 CFR 351.303(g).⁵¹ Commerce intends to reject factual submissions if the submitting party does not comply with the applicable certification requirements.

⁵⁰ See section 782(b) of the Act.

⁵¹ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in this investigation should ensure that they meet the requirements of 19 CFR 351.103(d) (e.g., by filing the required letter of appearance). Note that Commerce has amended certain of its requirements pertaining to the service of documents in 19 CFR 351.303(f).⁵²

⁵² See Administrative Protective Order, Service, and Other Procedures in Antidumping and Countervailing Duty Proceedings, 88 FR 67069 (September 29, 2023).

This notice is issued and published pursuant to sections 732(c)(2) and 777(i) of the Act, and 19 CFR 351.203(c).

Dated: August 19, 2025.
Abdelali Elouaradia,
Deputy Assistant Secretary for Enforcement and Compliance.

Appendix

Scope of the Investigation

The scope of this investigation is unwrought palladium. Unwrought palladium includes palladium, whether or not refined, in the form of ingots, blocks, lumps, billets, cakes, slabs, pigs, cathodes, anodes, briquettes, cubes, sticks, grains, sponge, pellets, shot, powder, and similar primary forms.

Unwrought palladium is covered by the scope regardless of production method. The scope includes unwrought palladium produced through ore extraction, unwrought palladium produced by recycling palladium-containing scrap, unwrought palladium produced by any other method, and blends of unwrought palladium produced by different methods.

The scope includes unwrought palladium that is commingled with unwrought palladium from sources not subject to this investigation or commingled with other metals. Only the subject unwrought palladium component of such commingled products is covered by the scope of this investigation.

Subject merchandise includes merchandise matching the above description that has been finished, packaged, or otherwise processed in a third country, including by refining, grinding, commingling, adding or removing additives (such as other metals), or performing any other finishing, packaging, or processing that would not otherwise remove the merchandise from the scope of the investigation if performed in the subject country.

The covered merchandise is currently classified in the Harmonized Tariff Schedule of the United States (HTSUS) at subheading 7110.21.0000. Unwrought palladium meeting the scope description may also enter under HTSUS subheading 7110.29.0000. Although the HTSUS subheadings are provided for convenience and for customs purposes, the written description of the subject merchandise is dispositive.

[FR Doc. 2025-16156 Filed 8-21-25; 8:45 am]

BILLING CODE 3510-DS-P